DEPARTMENT OF HEALTH AND HUMAN SERVICES

Centers for Medicare & Medicaid Services

[Document Identifier: CMS-R-39]

Emergency Clearance: Public Information Collection Requirements Submitted to the Office of Management and Budget (OMB)

AGENCY: Centers for Medicare & Medicaid Services, HHS.

ACTION: Notice.

SUMMARY: The Centers for Medicare and Medicaid Services (CMS) is requesting that an information collection request (ICR) related to the Medicare and Medicaid Programs: Conditions of Participation for Home Health Agencies (HHAs) and Supporting Regulations at 42 CFR part 484, be processed under the emergency clearance process associated with 5 CFR 1320.13(a)(2)(i). Public harm is reasonably likely to ensue if the normal, non-emergency clearance procedures are followed. The approval of this information collection package is necessary because in the absence of such approval CMS will be unable to effectively enforce these essential health and safety requirements. Among other things, CMS will be unable to enforce requirements that HHAs must provide a notice of rights to each patient, assure the proper training of home health aides before those aides provide hands-on care to patients, and disclose the names and addresses of all individuals with an ownership or management position so that we can assure that those with a history of fraud are not involved in HHA operations. Being unable to enforce these rules would harm patient health and safety, as well as create risks to the integrity of the Medicare and Medicaid programs.

Under the PRA, federal agencies are required to publish notice in the Federal Register concerning each proposed ICR. Interested persons are invited to send comments regarding our burden estimates or any other aspect of this ICR including the necessity and utility of the proposed ICR for the proper performance of the agency's functions, the accuracy of the estimated burden, ways to enhance the quality, utility, and clarity of the information to be collected and the use of automated collection techniques or other forms of information technology to minimize the information collection burden.

DATES: Comments must be received by April 3, 2017.

ADDRESSES: When commenting, please reference the document identifier (CMS-R-39) or OMB control number (0938-0365). To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: CMS-R-39/OMB Control Number 0938-0365, Room C4-26-05, 7500 Security Boulevard, Baltimore, Maryland 21244-1850. To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION:

Contents

This notice sets out a summary of the use and burden associated with the following ICR. More detailed information can be found in the collection's supporting statement and associated materials (see ADDRESSES).

CMS-R-39 Home Health Conditions of Participation (CoP) and Supporting Regulations

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public: submit reports, keep records, or provide information to a third party. To comply with this requirement, CMS is publishing this notice that summarizes the following proposed collection(s) of information for public comment:

Information Collection

1. Type of Information Collection Request: Extension without change of a previously approved collection; Title of Information Collection: Home Health Conditions of Participation (CoP) and Supporting Regulations; Use: The information collection requirements contained in this request are part of the requirements classified as the conditions of participation (CoPs) which are based on criteria prescribed in law and are standards designed to ensure that each facility has properly trained staff to provide the appropriate safe physical environment for patients. These particular standards reflect comparable standards developed by industry organizations such as the Joint Commission on Accreditation of Healthcare Organizations, and the Community Health Accreditation Program. We will use this information along with state agency surveyors, the regional home health intermediaries and home health agencies (HHAs) for the purpose of ensuring compliance with Medicare CoPs as well as ensuring the quality of care provided by HHA patients. Form Numbers: CMS-R-39 (OMB control number: 0938-0365); Frequency: Occasionally; Affected Public: Business or for-profits and Not-for-profit institutions, and State, Local or Tribal governments; Number of Respondents: 13,577; Total Annual Responses: 20,202,576; Total Annual Hours: 6,422,694. (For policy questions regarding this collection contact Danielle Shearer at 410-786-6617.)

Dated: February 28, 2017.
William N. Parham, III,
Director, Paperwork Reduction Staff, Office of Strategic Operations and Regulatory Affairs.

[FR Doc. 2017-04160 Filed 3-1-17; 8:45 am]

BILLING CODE 4120-01-P